DEPARTMENT OF THE INTERIOR

National Park Service

[NPS-MWR-IATR-10868; PPMWMWROW2/PPMPSAS1Y.YP0000]

Notice of Availability of the Final General Management Plan/Final Environmental Impact Statement for the Ice Age Complex at Cross Plains, WI

AGENCY: National Park Service, Interior.

ACTION: Notice of availability.

SUMMARY: The National Park Service (NPS) announces the availability of the Final General Management Plan/Environmental Impact Statement (GMP/EIS) for the Ice Age Complex at Cross Plains in Cross Plains, Wisconsin.

DATES: The Final GMP/EIS will remain available for public review for 30 days following the publishing of the Notice of Availability in the Federal Register by the Environmental Protection Agency.

ADDRESSES: Copies of the GMP/EIS will be available to the public by request by writing to the Superintendent, Ice Age National Scenic Trail, 700 Rayovac Drive, Suite 100, Madison, Wisconsin 53711. The document is available on the internet at the NPS Planning, Environment, and Public Comment Web site at http://www.parkplanning.nps.gov/iatr.

FOR FURTHER INFORMATION CONTACT: Superintendent John Madden, Ice Age National Scenic Trail, 700 Rayovac Drive, Suite 100, Madison, Wisconsin 53711, telephone (608) 441-5610.

SUPPLEMENTARY INFORMATION: We, the NPS, announce the availability of the Final GMP/EIS for the Ice Age Complex at Cross Plains, Wisconsin. This document is a joint state and federal effort addressing lands within the Cross Plains Unit of the Ice Age National Scientific Reserve as well as the Interpretive Site for the Ice Age National Scenic Trail; these lands are referred to as the “Ice Age Complex at Cross Plains” for the purpose of this planning effort.

This plan will guide the management of the Ice Age Complex at Cross Plains for the next 25 years. The Final GMP/EIS considers five draft conceptual alternatives—a no-action and four action alternatives, including the NPS preferred alternative. The Final GMP/EIS assesses impacts to soil resources, water quality, soundscapes, vegetation and wildlife, socioeconomics, and visitor use and experience.

The preferred alternative focuses on providing visitors with interpretation of the evolution of the complex from the last glacial retreat and opportunities to enjoy appropriate low-impact outdoor recreation. Ecological resources would largely be managed to reveal the glacial landscape. The most sensitive ecological areas would be carefully protected, and visitor access would be highly controlled in these areas. Visitors would experience a wide variety of indoor and outdoor interpretive programming. Under this alternative, the Ice Age Complex would serve as the headquarters for the Ice Age National Scenic Trail.

Dated: July 10, 2012.
Michael T. Reynolds,
Regional Director, Midwest Region.

[FR Doc. 2012-31678 Filed 1-3-13; 8:45 am]

BILLING CODE 4310-MA-P